DEPARTMENT OF COMMERCE

National Oceanic and Atmospheric Administration

50 CFR Part 635

[I.D. 070500C]

Atlantic Highly Migratory Species Fisheries; Additional Scoping Meetings

AGENCY: National Marine Fisheries Service (NMFS), National Oceanic and Atmospheric Administration (NOAA), Commerce.

ACTION: Scoping meetings.

SUMMARY: On July 19, 2000, NMFS published a notice of intent to prepare a Supplemental Environmental Impact Statement (SEIS); notice of availability of Biological Opinion (BO); and an announcement of scoping meetings. NMFS also announced that additional scoping meetings may be scheduled at a later date. NMFS herewith announces two additional scoping meetings.

To accommodate people unable to attend a scoping meeting or wishing to provide written comments, NMFS also solicits written comments on these documents.

DATES: The additional scoping meetings are scheduled as follows:

1. Wednesday, August 16, 2000-Manteo, NC 7-9:30 p.m.

2. Thursday, August 18, 2000-Cape Canaveral, FL 7-9:30 p.m.

ADDRESSES: The locations for the additional scoping meetings are as follows:

1. N.C. Aquariums, Roanoke Island, Neptune Theater, 374 Airport Road, Manteo, NC 27954.

2. Radisson Resort at the Port & Conference Ctr. 8701 Astronaut Boulevard, Cape Canaveral, FL 32920.

Written comments on the proposal to prepare the SEIS and requests for copies of the BO should be sent to: Rebecca Lent, Chief, Highly Migratory Species Management Division (F/SF1), Office of Sustainable Fisheries, NMFS, 1315 East-West Highway, Silver Spring, MD 20910. Comments also may be sent via facsimile (fax) to (301) 713-1917. Comments will not be accepted if submitted via e-mail or the Internet.

FOR FURTHER INFORMATION CONTACT: Margo Schulze-Haugen or Karyl Brewster-Geisz, 301-713-2347; fax 301-713-1917.

SUPPLEMENTARY INFORMATION: Background information about the Supplemental Environmental Impact Statement (SEIS), the Biological Opinion, and a list of other scoping meetings are contained in the announcement published July 19,2000 (65 FR 44753) and is not repeated here.

Public Hearings and Special Accommodations

The public is reminded that NMFS expects participants at the public hearings to conduct themselves appropriately. At the beginning of each public hearing, a NMFS representative will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

The scoping meetings are physically accessible to people with disabilities. Requests for sign language interpretation or other auxiliary aids should be directed to Margo Schulze-Haugen or Karyl Brewster-Geisz (see FOR FURTHER INFORMATION CONTACT) at least 7 days prior to the hearing or meeting.

Authority: 16 U.S.C. 971 et seq., and 16 U.S.C. 1801 et seq.

Dated: July 27, 2000.
Bruce C. Morehead,
Acting Director, Office of Sustainable Fisheries, National Marine Fisheries Service.

[FR Doc. 00-19389 Filed 7-31-00; 8:45 am]

BILLING CODE 3510-22-F